DEPARTMENT OF EDUCATION

34 CFR Chapter III

[Docket ID ED-2015-OSERS-0061]

Final Priority and Definitions; Demonstration and Training Program: Career Pathways for Individuals With Disabilities

AGENCY: Office of Special Education and Rehabilitative Services, Department of Education.

ACTION: Final priority and definitions.

[CFDA Number: 84.235N.]

SUMMARY: The Assistant Secretary for Special Education and Rehabilitative Services announces a priority designed to demonstrate promising practices in the use of career pathways to improve employment outcomes for individuals with disabilities. Specifically, this priority will establish model demonstration projects that engage State vocational rehabilitation (VR) agencies in partnerships with other entities to develop and use career pathways to help individuals with disabilities eligible for VR services, including youth with disabilities, acquire necessary marketable skills and recognized postsecondary credentials. The Assistant Secretary may use this priority for competitions in fiscal year (FY) 2015 and later years.

DATES: This priority and these definitions are effective September 8, 2015.

FOR FURTHER INFORMATION CONTACT: Felipe Lulli, U.S. Department of Education, 400 Maryland Avenue SW., Room 5042, Potomac Center Plaza (PCP), Washington, DC 20202-2800. Telephone: (202) 245-7425 or by email: felipe.lulli@ed.gov.

If you use a telecommunications device for the deaf (TDD) or a text telephone (TTY), call the Federal Relay Service (FRS), toll free, at 1-800-877-8339.

SUPPLEMENTARY INFORMATION: Purpose of Program: The purpose of the Demonstration and Training Program is to provide competitive grants to, or enter into contracts with, eligible entities to expand and improve rehabilitation and other services authorized under the Rehabilitation Act of 1973, as amended (Rehabilitation Act), or to further the purposes and policies in sections 2(b) and 2(c) of the Rehabilitation Act by supporting activities that increase the provision, extent, availability, and scope, as well as improve the quality of rehabilitation services under the Rehabilitation Act.

Program Authority: 29 U.S.C. 773(b).

Applicable Program Regulations: 34 CFR part 373.

We published a notice of proposed priority and definitions for this competition in the Federal Register on May 15, 2015 (80 FR 27874). That notice contained background information and our reasons for proposing the particular priority and definitions. There are differences between the proposed priority and the final priority which are explained in the Analysis of Comments and Changes section of this notice.

Public Comment: In response to our invitation in the notice of proposed priority and definitions, two parties submitted comments relevant to this priority.

Generally, we do not address technical and other minor changes.

Analysis of the Comments and Changes: An analysis of the comments and of any changes in the priority and definitions since publication of the notice of proposed priority follows.

Comment: One commenter inquired whether there were any Federal requirements for the legal or programmatic structure of an eligible consortium. We also identified a second issue implicit in the commenter's question, namely, when it is appropriate for VR agencies to apply as a group.

Discussion: We agree that the reference to “a consortium of State VR agencies” in the Eligible Applicants section of the proposed priority requires further definition. The Education Department General Administrative Regulations (EDGAR) at 34 CFR 75.127-129 authorize eligible entities to apply as a group. According to EDGAR, groups may take various forms, including consortia, provided that the constituent members are eligible entities and that the eligible applicants formally bind themselves to all the application statements and assurances, describe the activities they plan to conduct, and assume responsibility for compliance with all relevant Federal requirements. Accordingly, the final priority incorporates references to these requirements in the Eligibility and Application Requirements sections.

We also agree that further clarification is needed regarding the circumstances in which application by a group would be appropriate. Thus, we have added a requirement that groups must serve a defined metropolitan area or distinct population that exists across State lines.

Changes: In the Eligible Applicants section, we updated the final priority to use the broader term “group” instead of “consortium.” With regard to the circumstances for group applications, we have updated the Eligible Applicants section of the final priority to specify that State VR agencies may apply as a group if they serve individuals in a distinct geographic area shared by two or more adjacent States (e.g., metropolitan areas, targeted occupational clusters or related industries whose employment base extends beyond a single adjacent State).

Also, in the Application Requirements paragraph (c)(3), we added a new requirement that State VR agencies applying as a group identify their shared geographic area and describe how they will coordinate their project activities within that area. In paragraph (e) of the Application Requirements section, we stipulate that applications by groups must include a copy of the members' signed agreement designating the agency authorized to sign the application on behalf of the group; binding each agency to every statement, assurance and obligation in the application; and detailing the agencies' assigned project roles and responsibilities.

Comment: One commenter stated that the project requirements in the proposed priority would not ensure that grantees provide individuals with the kind of career development support they need for success in a career pathway. The commenter described the comprehensive career development process in terms of three distinct elements: the individual's self-exploration of career-related skills, interests, and values; exploration of potential occupations and career goals aligned with the individual's skills, interests, and values; and career planning and management to achieve the individual's chosen employment and personal goals. The commenter stated that career planning and management may involve career-specific skills, job search skills, and soft skills involving communication, teamwork, networking, problem solving, critical thinking, and professionalism.

In the commenter's view, the Project Requirements section of the proposed priority was inadequate because it did not require grantees to engage individuals in a comprehensive career development process. To correct this, the commenter recommended changes in the Project Requirements section to incorporate the three aspects of the comprehensive career development process, particularly in paragraphs (c)(6)(i) and (c)(6)(iv).

The same commenter made additional recommendations in support of job readiness. Specifically, the commenter proposed inserting additional examples of comprehensive support services, self-advocacy, and soft-skills in Project Requirements paragraphs (c)(4)(i), (c)(4)(iii), and (c)(6)(iv), respectively, as well as the addition of a new requirement regarding “supportive relationships with family members, mentors, role models, and other caring adults.”

Discussion: We agree with the commenter's three-part description of a systematic comprehensive career development process. We also agree that the phrase used in the proposed priority—“career counseling, career exploration and career readiness skills”—does not fully reflect such a process. It does not, for example, capture the self-exploration or career planning and management components of the process. Accordingly, the final priority incorporates a number of changes to improve the quality of the program's career development activities, consistent with the commenter's three-part description of a comprehensive career development process.

We also agree that the proposed priority omitted some important elements of comprehensive support services, self-advocacy, and soft-skills requirements, including fostering supportive relationships. The final priority therefore expands the comprehensive support services, self-advocacy training, and soft skills services to be provided, together with peer support and mentoring.

On the other hand, we do not believe that a new requirement regarding supportive relationships with family members is necessary, because the proposed priority's Application Requirements paragraph (c)(3)(vi) already requires “strategies for involving families.”

Changes: We have revised the final priority to include several changes to the Project Requirements section. Paragraph (c)(6)(i) has been revised to more fully reflect the nature and scope of the program's required career development services. In addition, paragraph (c)(4)(i) now incorporates benefits planning and physical and mental health services among the comprehensive support services. Further, we revised paragraph (c)(4)(iii) to incorporate mentoring and peer relationships as components of self-advocacy training. Finally, we revised paragraph (c)(6)(iv) to add communication, teamwork, networking, problem solving, critical thinking and professionalism as soft skills.

Comment: None.

Discussion: We identified several instances in which a particular requirement was cited in one part of the proposed priority but omitted in another place where it should have been cited.

The proposed priority's program description, for example, indicated that career pathway services are intended for individuals with disabilities who meet State VR eligibility requirements. However, this eligibility requirement was not reflected in the Project Requirements or Application Requirements sections of the proposed priority.

Also, certain requirements in the Project Requirements section were not addressed in the Application Requirements section. Paragraph (b) of the Project Requirements in the notice of proposed priority required the model project to be implemented at multiple sites and lead to one or more occupational clusters. However, the Application Requirements did not require applicants to identify those sites, clusters, or their criteria for selecting them. Also, while Project Requirements paragraph (c) enumerated six career pathway components, the Application Requirements section lacked any references to those components. Further, collaboration with federally funded career pathway initiatives was cited in paragraph (d) of the Project Requirements section, but the Application Requirements section did not require applicants to list or describe such collaboration(s).

With regard to employment outcomes, the proposed priority's Background section referenced competitive integrated employment for individuals with disabilities, but it did not require this employment outcome in either the Project Requirements section or the Application Requirements section's evaluation plan.

Finally, neither the Project Requirements nor the Application Requirements of the proposed priority specified whether grantees are expected to create new pathways or to access existing ones.

Changes: In the final priority, we have added references to “VR-eligible individuals” in paragraph (a) of the Project Requirements section and in paragraph (c)(4)(v) of the Application Requirements section.

In paragraph (c)(3) of the Application Requirements section, the final priority requires applicants to identify the project's proposed sites and targeted occupational clusters, and their criteria for selecting such sites and occupational clusters. We also added references to the six specified career pathway components in paragraph (c)(4)(v) of the Application Requirements section. In addition, we added the requirement that applicants describe their proposed collaboration with federally funded career pathway partners in Application Requirements paragraph (c)(4)(iii).

We have added an explicit reference to competitive integrated employment in paragraph (a) of the Project Requirements section. In Application Requirements paragraph (g), regarding evaluation plans, we added required data elements appropriate for measuring career pathways' effectiveness in creating competitive integrated employment opportunities for VR-eligible individuals.

In paragraph (a) of the Project Requirements section we added a statement clarifying that applicants may provide access to existing career pathways, create new ones, or both. Also, Application Requirements paragraph (c)(4)(iv) now requires applicants to describe how they would provide access to existing career pathways or create new pathways.

Final Priority

The Assistant Secretary for Special Education and Rehabilitative Services proposes a priority designed to demonstrate promising practices in the use of career pathways (as defined in this notice) in order to improve employment outcomes for individuals with disabilities (as defined in this notice). Specifically, the purpose of this priority is to establish model demonstration projects designed to promote State vocational rehabilitation (VR) agency partnerships in the development of and the use of career pathways to help individuals with disabilities eligible for VR services, including youth with disabilities (as defined in this notice), to acquire marketable skills and recognized postsecondary credentials (as defined in this notice).

Eligible Applicants: Under this priority, an applicant must be a State VR agency. State VR agencies may also apply as a group, consistent with 34 CFR 75.128, if they serve individuals in a distinct geographic area shared by two or more adjacent States. Applications by a group would be appropriate, for example, in cases of metropolitan areas, targeted occupational clusters or related industries whose employment base extends beyond a single State.

Project Requirements: Under this priority, the model demonstration proposed by an applicant must, at a minimum—

(a) Develop and implement a collaborative model project demonstrating promising practices and strategies in the use of career pathways to improve the skills of VR-eligible individuals with disabilities, including youth with disabilities, and help them attain credentials that lead to competitive integrated employment in high-demand occupations. The model must be implemented at multiple sites to ensure its replicability, and lead to one or more occupational clusters (as defined in this notice). The model project may involve providing access to existing career pathways, creating new pathways, or both;

(b) Establish partnerships between the VR agencies, employers, agencies, and entities that are critical to the development of career pathways and the alignment of education, training, employment, and human and social services. At minimum, the partnership should include representatives from local or State educational agencies responsible for providing transition services to students with disabilities under the Individuals with Disabilities Education Act and representatives from two-year and four-year institutions of higher education, American Job Centers, other workforce training providers (including apprenticeship, on-the-job and customized training providers), and employers who will work in collaboration to develop and provide postsecondary education and training for individuals with disabilities served under this project;

(c) Include the following career pathway components:

(1) Alignment of secondary and postsecondary education, training, employment, and human services with the skill needs of targeted industry sectors important to local, regional, or State economies;

(2) Rigorous, sequential, connected, and efficient curricula that connect basic education and skills training courses and that integrate education with training;

(3) Multiple entry and exit points for individuals with disabilities entering and exiting training;

(4) Comprehensive support services that are designed to ensure the individual's success in completing education and training programs:

(i) Financial supports, benefits planning, child care, physical and mental health services and transportation;

(ii) Educational supports (e.g., tutors, on-campus supports such as writing labs, math labs, and disability services);

(iii) Self-advocacy training (e.g., mentoring, peer relationships, understanding how to request services and supports needed in the transition from secondary to post-secondary education and employment, and increasing knowledge of rights under disability laws); and

(iv) Appropriate assistive technology services and devices;

(5) Flexible design of education and training programs and services to meet the particular needs of individuals with disabilities, including flexible work schedules, alternative class times and locations, and the innovative use of technology; and

(6) Education and training programs that focus on the attainment of secondary education and recognized postsecondary credentials, sector-specific employment, educational advancement over time and employment within a sector, including curriculum and instructional strategies designed to develop the following knowledge and skills:

(i) Comprehensive career development counseling and guidance, including self-exploration, career exploration and career planning and management;

(ii) Basic academic skills needed to demonstrate knowledge competencies in an occupation or occupational cluster, including remedial skills to address gaps in basic reading, writing, and math skills;

(iii) Career and technical skills leading to employment in technical careers, including employment in the skilled trades; and

(iv) Soft skills (e.g., understanding, communication, teamwork, networking, problem solving, critical thinking and professionalism, learning styles, identifying strengths and weaknesses);

(d) Collaborate with other federally-funded career pathway initiatives conducting activities relevant to the work of its proposed project; and

(e) Develop and conduct an evaluation of the project's performance in achieving project goals and objectives, including an evaluation on the effectiveness of the practices and strategies implemented by the project.

Application Requirements: To be considered for funding under this program, an application must include the following:

(a) A detailed review of the literature that supports the potential effectiveness of the proposed model, its components, and processes to improve outcomes for individuals with disabilities;

(b) A logic model that communicates how the demonstration project will achieve its outcomes and provides a framework for project evaluation. The logic model must depict, at a minimum, the goals, activities, outputs, and outcomes of the proposed model demonstration project;

(c) A description of the applicant's plan for implementing the project, including a description of—

(1) A cohesive, articulated model of partnership and coordination among the participating agencies and organizations;

(2) The coordinated set of promising practices and strategies in the use and development of career pathways that are aligned with employment, training, and education programs and reflect the needs of employers and individuals with disabilities;

(3) The model demonstration project's proposed sites and targeted occupational clusters, and the proposed criteria for selecting such sites and occupational clusters. State VR agencies applying as a group must also identify the shared geographic area and describe how they will coordinate their project activities within the shared area.

(4) How the proposed project will—

(i) Identify local workforce needs, aligned with the skill needs of targeted industry sectors important to local, regional, or State economies;

(ii) Involve employers in the project design and in partnering with project staff to develop integrated community settings for assessments, job shadowing, internships, apprenticeships, and other paid and unpaid work experiences that are designed to lead to competitive integrated employment for individuals with disabilities, including youth with disabilities;

(iii) Collaborate with participating agencies and organizations, including career pathway partners;

(iv) Provide access to existing career pathways, create new pathways, or both, incorporating the six required career pathway components: secondary and postsecondary education and training aligned with targeted industry sector needs; rigorous, sequential, connected and efficient curricula; multiple entry and exit points; comprehensive support services; flexible design of education, training, work settings and assistive technology; and focus on the attainment of secondary education, recognized postsecondary credentials, sector-specific employment, and related knowledge and skills.

(v) Conduct outreach activities to identify VR-eligible individuals with disabilities whom the career pathways approach could assist in achieving competitive integrated employment in the career clusters identified in their application; and

(vi) Develop strategies for involving families that will increase the likelihood for successful educational and employment outcomes for individuals with disabilities.

(d) The methods and criteria that will be used to select the sites at which the project activities will be implemented;

(e) Evidence (e.g., letter of support or draft agreement) that the State VR agency has specific agreements with its partners in the development and implementation of the project. In the case of a group, the application must also include a signed agreement among the constituent State VR agencies that designates the agency legally authorized to submit the application on behalf of the group; binds each agency to every statement, assurance and obligation in the application; and details the agencies' assigned roles and responsibilities, in accordance with 34 CFR 75.128 and 75.129;

(f) A plan for evaluating the project's performance, including an evaluation on the effectiveness of the practices and strategies implemented by the project, in achieving project goals and objectives. Specifically, the evaluation plan must include a description of:

(1) Project goals, measurable objectives, and operational definitions;

(2) The data to be collected;

(3) How the data will be analyzed; and

(4) How the outcomes for individuals with disabilities served by the project compared with the outcomes of individuals with disabilities not receiving project services.

(g) For each career pathway accessed or created through the project, the evaluation plan must provide the following information:

(1) Description of the career pathway—including the respective occupational cluster(s) or career field(s), stackable credentials, and multiple entry/exit points; and

(2) Collection of the following data, at minimum:

(i) The relevant RSA-911 Case Service Report data for each project participant;

(ii) The number of participants who entered the career pathway;

(iii) The number of participants who completed training in the career pathway;

(iv) The number of participants who attained one or more recognized postsecondary credential and the types of credentials attained;

(v) The number of participants who achieved competitive integrated employment through the project; and

(vi) The corresponding weekly wage and employer benefits received by these participants.

(h) A plan for systematic dissemination of project findings and knowledge gained that will assist State and local agencies in adapting or replicating the model career pathways developed and implemented by the project. This plan could include elements such as development of a Web site, community of practice, and participation in national and State conferences;

(i) An assurance that the employment goal for all individuals served under this priority will be competitive integrated employment, including customized or supported employment; and

(j) An assurance that the project will collaborate with other federally-funded career pathway initiatives conducting activities relevant to its work.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Definitions

The following definitions are provided to ensure that applicants have a clear understanding of how we are using these terms in the priority. There are no differences between the proposed definitions and these final definitions.

Career Pathway means a combination of rigorous and high-quality education, training, and other services that—

(a) Aligns with the skill needs of industries in the economy of the State or regional economy involved;

(b) Prepares an individual to be successful in any of a full range of secondary or postsecondary education options, including apprenticeships registered under the Act of August 16, 1937 (commonly known as the “National Apprenticeship Act”; 50 Stat. 664, chapter 663; 29 U.S.C. 50 et seq.);

(c) Includes counseling to support an individual in achieving the individual's education and career goals;

(d) Includes, as appropriate, education offered concurrently with and in the same context as workforce preparation activities and training for a specific occupation or occupational cluster;

(e) Organizes education, training, and other services to meet the particular needs of an individual in a manner that accelerates the educational and career advancement of the individual to the extent practicable;

(f) Enables an individual to attain a secondary school diploma or its recognized equivalent, and at least one recognized postsecondary credential; and

(g) Helps an individual enter or advance within a specific occupation or occupational cluster. Source: Section 3(7) of WIOA.

Competitive integrated employment means work that is performed on a full-time or part-time basis (including self-employment)—

(a) For which an individual—

(1) Is compensated at a rate that—

(i)(A) Shall be not less than the higher of the rate specified in section 6(a)(1) of the Fair Labor Standards Act of 1938 (29 U.S.C. 206(a)(1)) or the rate specified in the applicable State or local minimum wage law; and

(B) Is not less than the customary rate paid by the employer for the same or similar work performed by other employees who are not individuals with disabilities, and who are similarly situated in similar occupations by the same employer and who have similar training, experience, and skills; or

(ii) In the case of an individual who is self-employed, yields an income that is comparable to the income received by other individuals who are not individuals with disabilities, and who are self-employed in similar occupations or on similar tasks and who have similar training, experience, and skills; and

(2) Is eligible for the level of benefits provided to other employees;

(b) That is at a location where the employee interacts with other persons who are not individuals with disabilities (not including supervisory personnel or individuals who are providing services to such employee) to the same extent that individuals who are not individuals with disabilities and who are in comparable positions interact with other persons; and

(c) That, as appropriate, presents opportunities for advancement that are similar to those for other employees who are not individuals with disabilities and who have similar positions. Source: Section 7(5) of the Rehabilitation Act.

Individual with a disability means any individual who—

(a) Has a physical or mental impairment which for such individual constitutes or results in a substantial impediment to employment; and

(b) Can benefit in terms of an employment outcome from vocational rehabilitation services provided pursuant to Title I, III, or VI of the Rehabilitation Act. Source: Section 7(20) of the Rehabilitation Act.

Occupational cluster means a group of occupations and broad industries based on common knowledge and skills, job requirements or worker characteristics. Source: Adopted from Career Pathways Toolkit, DOL.

Recognized postsecondary credential means a credential consisting of an industry-recognized certificate or certification, a certificate of completion of an apprenticeship, a license recognized by the State involved or Federal Government, or an associate or baccalaureate degree. Source: Section 3(52) of WIOA.

Youth with a disability means an individual with a disability who—

(a) Is not younger than 14 years of age; and

(b) Is not older than 24 years of age. Source: Section 7(42) of the Rehabilitation Act.

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities. The benefits of the Demonstration and Training program have been well established over the years through the successful completion of similar projects, particularly those grants that demonstrated innovative service delivery practices. Specifically, this priority would establish model demonstrations showing that career pathways can be used to assist individuals with disabilities to achieve competitive integrated employment by obtaining recognized postsecondary credentials and thereby by meeting the needs of employers in high-demand career clusters. This priority is also directly responsive to the Presidential Memorandum to Federal agencies directing them to take action to address job-driven training for the Nation's workers.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) by request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 31, 2015.
Michael K. Yudin,
Assistant Secretary for Special Education and Rehabilitative Services.

[FR Doc. 2015-19293 Filed 8-5-15; 8:45 am]

BILLING CODE 4000-01-P